DEPARTMENT OF HEALTH AND HUMAN SERVICES

Centers for Disease Control and Prevention

[60Day-14-14AAO]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to LeRoy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Testing Act Early Messages and Materials for “Learn the Signs. Act Early.”—Phase II,—New—National Center on Birth Defects and Developmental Disabilities (NCBDDD), Centers for Disease Control and Prevention (CDC).

Background and Brief Description

Developmental milestones are used to track growth and development in children. Various milestones correspond to specific stages in a child's growth and development (e.g. crawling, walking, smiling, and waving “bye-bye”). Not all children develop at the same pace; however, these developmental milestones serve as a guide in monitoring children as they grow. According to the CDC, approximately one in six children in the United States have developmental-behavioral disabilities such as autism, intellectual disability, or attention-deficit/hyperactivity disorder. Despite the fact that most of these children will show mild developmental delays (i.e., failing to reach some of the milestones associated with their stage of development) by the age of two, less than half of these children will be identified before they start school. Missing this window of opportunity for diagnosing developmental delays in children creates a serious public health problem. The late identification of developmental delays can lead to increased costs for future interventions and can be detrimental to the child's ability to learn.

The CDC initiated the “Learn the Signs. Act Early.” (LTSAE) campaign in 2004 in an effort to improve the likelihood that children with developmental disabilities are identified and connected with appropriate services at the earliest age possible. To this end, one of the campaign's overall goals is to empower parents to “act early” if they have concerns about their child's development. Children from families insured by Medicaid and those from families with low incomes are often identified with developmental delays and disabilities at a later age than other children, and thus are the target audience for the campaign.

The study described in this information collection request seeks to assess the impact of “act early” messages embedded within LTSAE campaign materials. To achieve this goal, CDC will work with a contractor, Westat, to test revised draft messages and materials with low-income parents through focus groups and intercept interviews administered via the web on a tablet device. Parents/guardians who are age 18-55 and who have children age 5 or younger will be recruited from six primary care practices (3 in the Washington, DC/Baltimore, Maryland metropolitan area and three in the Atlanta, Georgia metropolitan area) to participate in focus groups and/or an intercept interview.

Selected primary care practices will see children from low-income families as part of their patient population. Each of the six selected practices will receive study promotional materials, including a poster to hang in the office and waiting room as well as handouts to leave at the front desk. These materials will advertise the focus groups and outline eligibility criteria.

Parents interested in participating will be advised to call an 800 number to be screened and scheduled for a group discussion (if eligible). The 800 number will be staffed by the Westat study team who will be responsible for screening and scheduling. Representatives from each of the practices will be provided with brief “talking points” and study (Frequently Asked Questions (FAQs) to refer to if interested parents have any basic questions about the study.

It is estimated that 80 respondents will have to be screened in order to recruit 40 participants for the focus groups. Each screening will take approximately five minutes. The estimated response burden for the screening process is seven hours. The focus groups will have 10 participants each. Four focus groups will be conducted in two locations (the metropolitan areas of Atlanta, Georgia and Washington, DC/Baltimore, Maryland), yielding a total of 40 participants. Parents/guardians will be asked to complete an informed consent, which will take approximately 15 minutes to review, and the focus group discussion using the moderator's guide will take 60 minutes to complete. Focus group activities will have a total burden of 50 hours.

The intercept interviews will take place in the waiting rooms or right outside the waiting rooms if feasible. Parents will be recruited as they are waiting for their appointment. Again, it is estimated that 80 respondents will have to be screened in order to recruit 40 participants. The screening process should take approximately five minutes. The estimated response burden for the screening process is seven hours. We plan to conduct a total of 40 intercept interviews. Twenty interviews will be conducted in each of two locations (Atlanta, Georgia metropolitan area and Washington, DC/Baltimore, Maryland metropolitan area). The intercept interview will be conducted as a computer-assisted personal interview (CAPI) and will take each respondent approximately 15 minutes to complete, for an estimated total burden of 10 hours.

The total estimated burden for this data collection is 74 hours. There is no cost to respondents other than their time.

Estimated Annualized Burden Hours
Type of respondent | Form name | Number of respondents | Number of responses per respondent | Average burden per response (in hours) | Total burden hours
Focus Groups
Parents/Guardians | Screener | 80 | 1 | 5/60 | 7
Parents/Guardians | Informed Consent | 40 | 1 | 15/60 | 10
Parents/Guardians | Focus Group Moderator's Guide | 40 | 1 | 1 | 40
Intercept Interviews
Parents/Guardians | Screener | 80 | 1 | 5/60 | 7
Parents/Guardians | Intercept Interview | 40 | 1 | 15/60 | 10
Total |  |  |  |  | 74

LeRoy A. Richardson,
Chief, Information Collection Review Office, Office of Scientific Integrity, Office of the Associate Director for Science, Office of the Director, Centers for Disease Control and Prevention.

[FR Doc. 2014-11449 Filed 5-16-14; 8:45 am]

BILLING CODE 4163-18-P